FEDERAL ELECTION COMMISSION

[Notice 2008-4]

Price Index Increases for Expenditure Limitations

AGENCY: Federal Election Commission.

ACTION: Notice of expenditure limitation increases.

SUMMARY: As mandated by provisions of the Bipartisan Campaign Reform Act of 2002 (“BCRA”), the Federal Election Commission (“FEC” or “the Commission”) is adjusting certain expenditure limitations set forth in the Federal Election Campaign Act of 1971, as amended (“FECA” or “the Act”), to account for increases in the consumer price index. Additional details appear in the supplemental information that follows.

Effective Date: January 1, 2008.

FOR FURTHER INFORMATION CONTACT: Mr. Kevin R. Salley, Information Division, 999 E Street, NW., Washington, DC 20463; (202) 694-1100 or (800) 424-9530.

SUPPLEMENTARY INFORMATION: Under the Federal Election Campaign Act of 1971, 2 U.S.C. 431 et seq., as amended by the Bipartisan Campaign Reform Act of 2002 ¹, coordinated party expenditure limits (2 U.S.C. 441a(d)(2), (3)(A) and (B)) are adjusted annually by the increase in the consumer price index. See 2 U.S.C. 441a(c)(1), 11 CFR 109.32 and 11 CFR 110.17. The Commission is publishing this notice to announce these limits for 2008.

¹ Public Law No. 107-155, 116 Stat. 81 (Mar. 27, 2002).

Coordinated Party Expenditure Limits for 2008

Under 2 U.S.C. 441a(c), the Commission must adjust the expenditure limitations established by 2 U.S.C. 441a(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives in States with More Than One Congressional District.

Both the national and state party committees have an expenditure limitation for each general election held to fill a seat in the House of Representatives in States with more than one congressional district. This limitation also applies to those States that elect individuals to the office of Delegate or Resident Commissioner.² The formula used to calculate the expenditure limitation in such States multiplies the base figure of $10,000 by the price index (4.205), rounding to the nearest $100. See 2 U.S.C. 441a(d)(3)(B) and 11 CFR 109.32(b). Based upon this formula, the expenditure limitation for 2008 general elections for House candidates in these States is $42,100.

² Currently, these States include the District of Columbia, the Commonwealth of Puerto Rico, and the territories of American Samoa, Guam, and the United States Virgin Islands. See http://www.house.gov/house/MemberWWW_by_State.shtml and http://about.dc.gov/statehood.asp.

2. Expenditure Limitation for Senate and for House of Representatives in States With Only One Congressional District

Both the national and state party committees have an expenditure limitation for a general election held to fill a seat in the Senate or in the House of Representatives in States with only one congressional district. The formula used to calculate this expenditure limitation considers not only the price index but also the voting age population (“VAP”) of the state. The VAP of each state is published annually in the Federal Register by the Department of Commerce. 11 CFR 110.18. The general election expenditure limitation is the greater of: the base figure ($20,000) multiplied by the price index (which totals $84,100); or $0.02 multiplied by the VAP of the state, multiplied by the price index. Amounts are rounded to the nearest $100. See 2 U.S.C. 441a(d)(3)(A) and 11 CFR 109.32(b). The chart below provides the state-by-state breakdown of the 2008 general election expenditure limitations for Senate elections. The expenditure limit for 2008 House elections in states with only one congressional district ³ is $84,100.

³ Currently, these states are: Alaska, Delaware, Montana, North Dakota, South Dakota, Vermont, and Wyoming. See http://www.house.gov/house/MemberWWW_by_State.shtml.

Senate General Election Expenditure Limitations—2008 Elections
State | VAP (in thousands) | VAP × .02 × the price index (4.205) | Senate expenditure limit (the greater of the amount in column 3 or $84,100)
Alabama | 3,504 | $294,700 | $294,700
Alaska | 501 | 42,100 | 84,100
Arizona | 4,669 | 392,700 | 392,700
Arkansas | 2,134 | 179,500 | 179,500
California | 27,169 | 2,284,900 | 2,284,900
Colorado | 3,669 | 308,600 | 308,600
Connecticut | 2,682 | 225,600 | 225,600
Delaware | 659 | 55,400 | 84,100
Florida | 14,208 | 1,194,900 | 1,194,900
Georgia | 7,013 | 589,800 | 589,800
Hawaii | 998 | 83,900 | 84,100
Idaho | 1,092 | 91,800 | 91,800
Illinois | 9,653 | 811,800 | 811,800
Indiana | 4,759 | 400,200 | 400,200
Iowa | 2,277 | 191,500 | 191,500
Kansas | 2,080 | 174,900 | 174,900
Kentucky | 3,238 | 272,300 | 272,300
Louisiana | 3,214 | 270,300 | 270,300
Maine | 1,038 | 87,300 | 87,300
Maryland | 4,260 | 358,300 | 358,300
Massachusetts | 5,017 | 421,900 | 421,900
Michigan | 7,625 | 641,300 | 641,300
Minnesota | 3,937 | 331,100 | 331,100
Mississippi | 2,150 | 180,800 | 180,800
Missouri | 4,454 | 374,600 | 374,600
Montana | 738 | 62,100 | 84,100
Nebraska | 1,328 | 111,700 | 111,700
Nevada | 1,905 | 160,200 | 160,200
New Hampshire | 1,018 | 85,600 | 85,600
New Jersey | 6,622 | 556,900 | 556,900
New Mexico | 1,470 | 123,600 | 123,600
New York | 14,884 | 1,251,700 | 1,251,700
North Carolina | 6,843 | 575,500 | 575,500
North Dakota | 497 | 41,800 | 84,100
Ohio | 8,715 | 732,900 | 732,900
Oklahoma | 2,718 | 228,600 | 228,600
Oregon | 2,885 | 242,600 | 242,600
Pennsylvania | 9,646 | 811,200 | 811,200
Rhode Island | 825 | 69,400 | 84,100
South Carolina | 3,348 | 281,600 | 281,600
South Dakota | 599 | 50,400 | 84,100
Tennessee | 4,685 | 394,000 | 394,000
Texas | 17,281 | 1,453,300 | 1,453,300
Utah | 1,829 | 153,800 | 153,800
Vermont | 490 | 41,200 | 84,100
Virginia | 5,886 | 495,000 | 495,000
Washington | 4,932 | 414,800 | 414,800
West Virginia | 1,425 | 119,800 | 119,800
Wisconsin | 4,280 | 359,900 | 359,900
Wyoming | 397 | 33,400 | 84,100

3. Expenditure Limitation for President

The national party committees have an expenditure limitation for their general election nominee for President. The formula used to calculate the Presidential expenditure limitation considers not only the price index but also the total VAP of the United States. The Department of Commerce also publishes the total VAP of the United States annually in the Federal Register. 11 CFR 110.18. The formula used to calculate this expenditure limitation is $0.02 multiplied by the total VAP of the United States (227,719,424), multiplied by the price index. Amounts are rounded to the nearest $100. See 2 U.S.C. 441a(d)(2) and 11 CFR 109.32(a). Based upon this formula, the expenditure limitation for 2008 Presidential nominees is $19,151,200.

Contribution Limitations for Individuals, Non-Multicandidate Committees and for Certain Political Party Committees Giving to U.S. Senate Candidates for the 2007-2008 Election Cycle

For the convenience of the readers, the Commission is also republishing the contribution limitations for individuals, non-multicandidate committees and for certain political party committees giving to U.S. Senate candidates for the 2007-2008 election cycle:

Statutory provision | Statutory amount | 2007-2008 limitation
2 U.S.C. 441a(a)(1)(A) | $2,000 | $2,300.
2 U.S.C. 441a(a)(1)(B) | $25,000 | $28,500.
2 U.S.C. 441a(a)(3)(A) | $37,500 | $42,700.
2 U.S.C. 441a(a)(3)(B) | $57,500 (of which no more than $37,500 may be attributable to contributions to political committees that are not political committees of national political parties) | $65,500 (of which no more than $42,700 may be attributable to contributions to political committees that are not political committees of national political parties).
2 U.S.C. 441a(h) | $35,000 | $39,900.

Dated: February 7, 2008.
David M. Mason,
Chairman, Federal Election Commission.

[FR Doc. 08-695 Filed 2-13-08; 8:45 am]

BILLING CODE 6715-01-P